DEPARTMENT OF COMMERCE

International Trade Administration

[A-122-814]

Pure Magnesium from Canada; Notice of Final Results of Antidumping Duty Administrative Review

AGENCY: Import Administration, International Trade Administration, Department of Commerce.

ACTION: Notice of final results of 2001/2002 administrative review.

SUMMARY: On April 24, 2003, the Department of Commerce published the preliminary results of the administrative review of the antidumping duty order on pure magnesium from Canada. The period of review is August 1, 2001, through July 31, 2002. This review covers imports of pure magnesium from one producer/exporter. We provided interested parties with an opportunity to comment on the preliminary results of this review, but received no comments.

The final results do not differ from the preliminary results of this review, in which we found that sales of the subject merchandise have not been made below normal value. We will instruct the United States Bureau of Customs and Border Protection not to assess antidumping duties on the subject merchandise exported by this company.

EFFECTIVE DATE: August 7, 2003.

FOR FURTHER INFORMATION CONTACT: Scott Holland, Import Administration, International Trade Administration, U.S. Department of Commerce, 14th Street and Constitution Avenue, NW., Washington, DC 20230; telephone: (202) 482-1279.

SUPPLEMENTARY INFORMATION:

Background

Since the publication of the preliminary results of this review (see Pure Magnesium from Canada; Preliminary Results of Antidumping Duty Administrative Review and Partial Rescission of Review, 68 FR 20112 (April 24, 2003) (“Preliminary Results”)), the following events have occurred:

The Department of Commerce (“the Department”) invited interested parties to comment on the preliminary results of this review. No comments were received.

Scope of the Order

The product covered by this order is pure magnesium. Pure unwrought magnesium contains at least 99.8 percent magnesium by weight and is sold in various slab and ingot forms and sizes. Granular and secondary magnesium are excluded from the scope currently classifiable under subheading 8104.11.0000 of the Harmonized Tariff Schedule (“HTS”). The HTS item number is provided for convenience and for customs purposes. The written description of the scope of the order remains dispositive.

Period of Review

The period of review (“POR”) is August 1, 2001, through July 31, 2002.

Fair Value Comparisons

To determine whether sales of pure magnesium from Canada to the United States were made at less than normal value (“NV”), we compared export price (“EP”) to NV. Our calculations followed the methodologies described in the Preliminary Results.

Final Results of the Review

As a result of this review, we determine that the following percentage weighted-average margin exists for the period August 1, 2001, through July 31, 2002:

Manufacturer/Exporter | Margin
Norsk Hydro Canada Inc. | 0.01 (de minimis)

Assessment Rates

The Department shall determine, and the United States Bureau of Customs and Border Protection (“BCBP”) shall assess, antidumping duties on all appropriate entries. In accordance with 19 CFR 351.212 (b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer).

Pending the final disposition of a NAFTA panel appeal by NHCI, the Department will not order the liquidation of entries of pure magnesium from Canada exported by NHCI on or after August 1, 2000, at this time. Liquidation will occur at the rates described in these final results of review following the final judgement in the NAFTA panel appeals process.

Cash Deposit Requirements

The following deposit requirements will be effective upon the publication of this notice of final results of administrative review for all shipments of pure magnesium from Canada entered, or withdrawn from warehouse, for consumption on or after the date of publication, as provided by 751(a)(1) of the Act: (1) For NHCI, which has a de minimis rate, no antidumping duty deposit will be required; (2) for previously reviewed or investigated companies not listed above, the cash deposit rate will continue to be the company-specific rate published for the most recent period; (3) the cash deposit rate for all other exporters will continue to be 21.00 percent, the “all others” rate made effective by the less-than-fair-value investigation.

These deposit instructions will remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding APOs

This notice also serves as the only reminder to parties subject to the administrative protective order (“APO”) of their responsibility concerning the disposition of proprietary information disclosed under APO in accordance with 19 CFR 351.305(a)(3). Timely written notification of return/destruction of APO material or conversion to judicial protective order is hereby requested. Failure to comply with the regulation and the terms of an APO is a sanctionable violation.

We are issuing and publishing these results in accordance with sections 751(a)(1) and 777(i)(1) of the Act.

Dated: July 30, 2003.
Joseph A. Spetrini,
Acting Assistant Secretary for Grant Aldonas, Under Secretary.

[FR Doc. 03-20174 Filed 8-6-03; 8:45 am]

BILLING CODE 3510-DS-P